DEPARTMENT OF JUSTICE

[OMB Number 1121-0269]

Agency Information Collection Activities; Proposed eCollection eComments Requested; Reinstatement With Change of a Previously Approved Collection for Which Approval Has Expired; 2014 Census of Publicly Funded Forensic Crime Laboratories

AGENCY: Bureau of Justice Statistics, Office of Justice Programs, Department of Justice.

ACTION: 30-Day notice.

SUMMARY: The Department of Justice (DOJ), Office of Justice Programs, Bureau of Justice Statistics, will be submitting the following information collection request to the Office of Management and Budget (OMB) for review and approval in accordance with the Paperwork Reduction Act of 1995. This proposed information collection was previously published in the Federal Register at Volume 79, Number 179, pages 55503-55504, September 16, 2014, allowing for a 60 day comment period.

DATES: Comments are encouraged and will be accepted for additional days until December 22, 2014.

FOR FURTHER INFORMATION CONTACT: If you have additional comments especially on the estimated public burden or associated response time, suggestions, or need a copy of the proposed information collection instrument with instructions or additional information, please contact Matthew Durose, Statistician, Bureau of Justice Statistics, Office of Justice Programs, U.S. Department of Justice, 810 Seventh Street NW., Washington, DC 20531 (phone: 202-307-6119). Written comments and/or suggestions can also be directed to the Office of Management and Budget, Office of Information and Regulatory Affairs, Attention Department of Justice Desk Officer, Washington, DC 20530 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Overview of This Information Collection

1. Type of Information Collection: Reinstatement with change of a previously approved collection for which approval has expired.

2. The Title of the Form/Collection: 2014 Census of Publicly Funded Forensic Crime Laboratories.

3. The agency form number: The form number is CFCL-14, Bureau of Justice Statistics, Office of Justice Programs, U.S. Department of Justice.

4. Affected public who will be asked or required to respond, as well as a brief abstract: Respondents will represent federal, state, and local governments. The primary goals of the work under this clearance are to produce a national roster of publicly funded forensic crime laboratories operating in 2014 and to generate accurate and reliable information about their services and resources. A questionnaire will be directed to federal, state, and local crime labs that analyze physical evidence collected in criminal matters and provide court testimony on such evidence. The CPFFCL-14 will provide national statistics on laboratory personnel, budgets, workloads, forensic backlogs, and quality assurances (e.g., accreditations, proficiency testing, examiner certifications, and resources devoted to research). BJS will expand the scope of the CPFFCL-14 to capture additional information about an emerging forensic science discipline known as digital and multimedia evidence. BJS plans to publish this information in reports and reference it when responding to queries from the U.S. Congress, Executive Office of the President, the U.S. Supreme Court, state officials, international organizations, researchers, students, the media, and others interested in criminal justices statistics.

5. An estimate of the total number of respondents and the amount of time estimated for an average respondent to respond: 510 respondents at 2.9 hours each. Respondents have the option to provide responses using either paper or web-based questionnaires. The burden estimate is based on feedback from respondents gathered during pilot testing.

6. An estimate of the total public burden (in hours) associated with the collection: There is an estimated 1,479 annual total burden hours associated with this collection.

If additional information is required contact: Jerri Murray, Department Clearance Officer, United States Department of Justice, Justice Management Division, Policy and Planning Staff, Two Constitution Square, 145 N Street NE., 3E.405B, Washington, DC 20530.

Dated: November 18, 2014.
Jerri Murray,
Department Clearance Officer for PRA, U.S. Department of Justice.

[FR Doc. 2014-27597 Filed 11-20-14; 8:45 am]

BILLING CODE 4410-18-P